OFFICE OF SPECIAL COUNSEL

5 CFR Part 1800

[OMB Control No. 3255-0005]

Filing of Complaints of Prohibited Personnel Practices or Other Prohibited Activities and Filing Disclosures of Information

AGENCY: U.S. Office of Special Counsel.

ACTION: Final rule; delay of effective date.

SUMMARY: This document delays the effective date of the final rule and information collection activity published in the June 9, 2017 issue of the Federal Register. The U.S. Office of Special Counsel (OSC) will issue a new effective date in due course.

DATES: As of July 14, 2017, the effective date of the final rule published at 82 FR 26739 on June 9, 2017, is delayed indefinitely.

FOR FURTHER INFORMATION CONTACT: Susan K. Ullman, General Counsel, U.S. Office of Special Counsel, by telephone at 202-254-3600, by facsimile at (202) 254-3711, or by email at sullman@osc.gov.

SUPPLEMENTARY INFORMATION: On June 9, 2017 (82 FR 26739), OSC published a final rule revising its regulations regarding the filing of complaints and disclosures with OSC and updating OSC's prohibited personnel practice provisions. This document indefinitely delays the effective date of that final rule.

Dated: July 11, 2017.
Bruce Gipe,
Chief Operating Officer.

[FR Doc. 2017-14814 Filed 7-13-17; 8:45 am]

BILLING CODE 7405-01-P